DEPARTMENT OF TRANSPORTATION

Surface Transportation Board

[STB Finance Docket No. 34073]

Henry G. Hohorst, Bruce Hohorst, and Anthony M. Linn and The West Tennessee Railroad, LLC—Corporate Family Transaction Exemption

Henry G. Hohorst, Bruce Hohorst, and Anthony M. Linn, individuals (applicants), have filed a verified notice of exemption to continue in control of The West Tennessee Railroad, LLC (WTNN), a New Jersey limited liability company, upon its succeeding to the operating rights and responsibilities of West Tennessee Railroad Corp. (WTRC) and its leasing a line of railroad from Norfolk Southern Railway Company (NSR).

The transaction was scheduled to be consummated on or after August 1, 2001.

This transaction is related to STB Finance Docket No. 34039, The West Tennessee Railroad, LLC—Lease and Operation Exemption—Norfolk Southern Railway Company, wherein WTNN seeks to lease and operate an approximately 140.1-mile line of railroad between Fulton, KY, and Corinth, MS, currently owned and operated by NSR.

Applicants own South Central Rail Group, Inc., which, in turn, owns WTRC ¹ and a controlling interest in the Tennken Railroad Co. Applicants also own rail carriers SCTRR, LLC and IRW Railway, LLC.

¹ WTNN is a restructured WTRC, a Tennessee corporation. WTNN has the same owners, address, representatives, and officers as WTRC, STRC operates a line from Lawrence, TN, to Kenton, TN, under a lease-operating agreement.

This is a transaction within a corporate family that will not result in adverse changes in service levels, significant operational changes, or a change in the competitive balance with carriers outside the corporate family. Therefore, the transaction is exempt from the prior approval requirements of 49 U.S.C. 11323. See 49 CFR 1180.2(d)(3).

Under 49 U.S.C. 10502(g), the Board may not use its exemption authority to relieve a rail carrier of its statutory obligation to protect the interests of its employees. Section 11326(c), however, does not provide for labor protection for transactions under sections 11324 and 11325 that involve only Class III rail carriers. Because this transaction involves Class III rail carriers only, the Board, under the statute, may not impose labor protective conditions for this transaction.

If the notice contains false or misleading information, the exemption is void ab initio. Petitions to revoke the exemption under 49 U.S.C. 10502(d) may be filed at any time. The filing of a petition to revoke will not automatically stay the transaction.

An original and 10 copies of all pleadings, referring to STB Finance Docket No. 34073, must be filed with the Surface Transportation Board, Office of the Secretary, Case Control Unit, 1925 K Street, NW., Washington, DC 20423-0001. In addition, a copy of each pleading must be served on John F. McHugh, McHugh & Barnes, P.C., 20 Exchange Place, New York, NY 10005.

Board decisions and notices are available on our website at “WWW.STB.DOT.GOV.”

Decided: August 9, 2001.
By the Board, David M. Konschnik, Director, Office of Proceedings.
Vernon A. Williams,
Secretary.

[FR Doc. 01-20513 Filed 8-16-01; 8:45 am]

BILLING CODE 4915-00-P